DEPARTMENT OF COMMERCE

Economics and Statistics Administration

Submission for OMB Review; Comment Request

The Department of Commerce has submitted to the Office of Management and Budget (OMB) for the following proposal for collection of information under the provisions of the Paperwork Reduction Act of 1995 (44 U.S.C. Chapter 35).

Agency: Economics and Statistics Administration (ESA), the Department of Commerce.

Title: Customer Satisfaction Surveys.

Form Number(s): None.

OMB Approval Number: None.

Type of Request: Regular submission.

Burden Hours: 800.

Number of Respondents: 4,000.

Average Hours Per Response: 12 minutes.

Needs and Uses: This information collection is necessary to help STAT-USA fulfill its mission of disseminating economic and statistical information to the business community and individual users. STAT-USA plans to survey its current customer base annually with a 25-question Customer Satisfaction Survey. STAT-USA plans to use a number of survey formats including mail, fax, on-line, and paper in order to ensure a high response rate. STAT-USA believes that regular communication with its customers, specifically feedback from the survey, will enable it to deliver its goods and services in the most user-friendly, economical and efficient manner. Only by knowing its customer base and its needs can STAT-USA continue to deliver the highest quality of collected economic and statistical information.

Affected Public: Business and individual data users.

Frequency: Annually.

Respondent's Obligation: Voluntary.

OMB Desk Office: Paul Bugg

Copies of the above information collection proposal can be obtained by calling or writing Linda Engelmeier, DOC Forms Clearance Officer, (202) 482-3272, Department of Commerce, Room 6086, 14th and Constitution Avenue, NW., Washington, DC 20230 (or via the Internet at lengelme@doc.gov).

Written comments and recommendations for the proposed information collection should be sent within 30 days of publication of this notice to must be submitted on or before September 8, 2000.

Dated: August 3, 2000.
Madeleine Clayton,
Management Analyst, Office of the Chief Information Officer.

[FR Doc. 00-20059 Filed 8-8-00; 8:45 am]

BILLING CODE 3510-07-M